ENVIRONMENTAL PROTECTION AGENCY

[FRL-7529-8]

Proposed CERCLA Section 122(h)(1) Administrative Agreement for Recovery of Response Costs for the Radiation Technology, Inc. Superfund Site, Rockaway Township, Morris County, NJ

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed administrative agreement pursuant to section 122(h) of CERCLA, 42 U.S.C. 9622(h), for recovery of response costs concerning the Radiation Technology, Inc. Superfund Site (“Site”) located in Rockaway Township, Morris County, New Jersey. The settlement requires the settling parties, Sterigenics East Corporation and Ion Beam Applications, Inc., the current lessees of a 15-acre parcel of property located on the approximately 280-acre Site, to pay $200,000 in reimbursement of EPA's response costs at the Site. The settlement includes a covenant not to sue the settling parties pursuant to sections 106 and 107(a) of CERCLA, 42 U.S.C. 9606 and 9607(a), in exchange for settling parties' payment of monies. For thirty (30) days following the date of publication of this notice, EPA will receive written comments relating to the settlement.

EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before August 18, 2003.

ADDRESSES: The proposed settlement is available for public inspection at EPA Region II offices at 290 Broadway, New York, New York 10007-1866.

Comments should reference the Radiation Technology, Inc. Superfund Site located in Rockaway Township, Morris County, New Jersey, Index No. CERCLA 02-2003-2006. To request a copy of the proposed settlement agreement, please contact the individual identified below.

FOR FURTHER INFORMATION CONTACT: Frances M. Zizila, Assistant Regional Counsel, New Jersey Superfund Branch, Office of Regional Counsel, U.S. Environmental Protection Agency, 17th Floor, 290 Broadway, New York, New York 10007-1866. Telephone: (212) 637-3135.

Dated: July 9, 2003.
William McCabe,
Acting Director, Emergency & Remedial Response Division.

[FR Doc. 03-18158 Filed 7-17-03; 8:45 am]

BILLING CODE 6560-50-P